DEPARTMENT OF COMMERCE

National Oceanic and Atmospheric Administration

[RTID 0648-XW016]

Magnuson-Stevens Act Provisions; Fisheries Off West Coast States; Pacific Coast Groundfish Fishery; Trawl Rationalization Program; 2020 Cost Recovery

AGENCY: National Marine Fisheries Service (NMFS), National Oceanic and Atmospheric Administration (NOAA), Commerce.

ACTION: Notice, 2020 cost recovery fee percentage correction.

SUMMARY: This action provides participants in the Pacific Coast Groundfish Trawl Rationalization Program (Trawl Program), Shorebased Individual Fishing Quota (IFQ) Program with the updated 2020 fee percentage needed to calculate the required payments for the cost recovery fees due for the remainder of 2020. For the remainder of calendar year 2020, NMFS announces that the Shorebased IFQ Program fee percentage will be 2.88 percent.

DATES: Applicable June 16, 2020.

FOR FURTHER INFORMATION CONTACT: Christopher Biegel, Cost Recovery Program Coordinator, (503) 231-6291, fax (503) 872-2737, email Christopher.Biegel@NOAA.gov.

SUPPLEMENTARY INFORMATION: The Magnuson‐Stevens Fishery Conservation and Management Act (MSA) requires NMFS to collect fees to recover the costs directly related to the management, data collection and analysis, and enforcement directly related to and in support of a limited access privilege program (LAPP) (16 U.S.C. 1854(d)(2)), also called “cost recovery.” The Pacific Coast Groundfish Trawl Rationalization Program is a LAPP, implemented in 2011, and consists of three sector-specific programs: The Shorebased IFQ Program, the Mothership (MS) Co-op Program, and the Catcher Processer (CP) Co-op Program. In accordance with the MSA, and based on a recommended structure and methodology developed in coordination with the Pacific Fishery Management Council, NMFS began collecting mandatory fees of up to 3 percent of the ex‐vessel value of groundfish from each program (Shorebased IFQ Program, MS Co-op Program, and CP Co-op Program) in 2014. NMFS collects the fees to recover the incremental costs of management, data collection and analysis, and enforcement of the Groundfish Trawl Rationalization Program. Additional background can be found in the cost recovery proposed and final rules, 78 FR 7371 (February 1, 2013) and 78 FR 75268 (December 11, 2013), respectively. The details of cost recovery for the Groundfish Trawl Rationalization Program are in regulation at 50 CFR 660.115 (Trawl fishery-cost recovery program), 660.140 (Shorebased IFQ Program), 660.150 (MS Co-op Program), and 660.160 (CP Co-op Program).

To calculate the fee percentages, NMFS uses the formula specified in regulation at § 660.115(b)(1), where the fee percentage by sector equals the lower of 3 percent or DPC for that sector divided by total ex-vessel value (V) for that sector multiplied by 100 (Fee percentage = the lower of 3 percent or (DPC/V) × 100).

`DPC,' as defined in the regulations at § 660.115(b)(1)(i), are the actual incremental costs for the previous fiscal year directly related to the management, data collection and analysis, and enforcement of each program (Shorebased IFQ Program, MS Co-op Program, and CP Co-op Program). Actual incremental costs means those net costs that would not have been incurred but for the implementation of the Groundfish Trawl Rationalization Program, including both increased costs for new requirements of the program and reduced costs resulting from any program efficiencies.

“V”, as specified at § 660.115(b)(1)(ii), is the total ex-vessel value, as defined at § 660.111, for each sector from the previous calendar year. The regulations define ex-vessel value slightly differently for each sector, thus NMFS uses slightly different methods to calculate “V” for each sector. For the Shorebased IFQ Program, NMFS used the ex-vessel value for calendar year 2018 as reported in Pacific Fisheries Information Network (PacFIN) from shorebased IFQ electronic fish tickets, as this was the most recent complete set of data.

NMFS announced the 2020 cost recovery fees in the Federal Register on December 11, 2019 (84 FR 67720). Subsequently, NMFS determined that the DPC for the Shorebased IFQ Program inadvertently included costs that were not recoverable as well as some staff costs that should have been included. The recalculation has resulted in an updated cost recovery fee that will be in effect for the remainder of the 2020 calendar year.

The adjustments were associated with the West Coast Region (WCR) staff time and contracting, Northwest Fisheries Science Center Scientific Data Management Program (SDM) contracting, and the Pacific States Marine Fisheries Commission (PSMFC) grant. These adjustments are shown below (in Table 1).

Table 1
Sector | WCR contracting adjustment | WCR staff adjustment | SDM adjustment | PSMFC adjustment | Adjustment for 2021 calculation
IFQ | −$6,300.00 | $3,200.00 | −$196,423.00 | −$31,751.89 | −$231,273.89

The redetermination resulted in an adjustment to the Shorebased IFQ Program 2020 cost recovery fee percentage. This adjustment is shown below (in Table 2).

Table 2
IFQ total costs | Correction | Final IFQ totals | IFQ ex-vessel value | IFQ fee percentage
$1,807,551.12 | −$231,273.87 | $1,576,277.25 | $54,795,365.00 | 2.88

Because the adjustment has resulted in a lower fee for the Shorebased IFQ Program, NMFS will calculate the fees that should have been collected under the 2.88 percent fee and include the excess as a credit in the 2021 fee calculation.

Cost recovery fees are submitted to NMFS by Fish buyers via Pay.gov (https://www.pay.gov/paygov/). The fee percentage will be updated upon publication of this notice. Fees are only accepted in Pay.gov by credit/debit card or bank transfers. Cash or checks cannot be accepted. Fish buyers registered with Pay.gov can login in the upper left-hand corner of the screen. Fish buyers not registered with Pay.gov can go to the cost recovery forms directly from the website below. A link to the IFQ Pay.gov form is listed below: IFQ: https://www.pay.gov/public/form/start/58062865.

Authority: 16 U.S.C. 1801 et seq., 16 U.S.C. 773 et seq., and 16 U.S.C. 7001 et seq.

Dated: June 10, 2020.
Hélène M.N. Scalliet,
Acting Director, Office of Sustainable Fisheries, National Marine Fisheries Service.

[FR Doc. 2020-12891 Filed 6-15-20; 8:45 am]

BILLING CODE 3510-22-P